ENVIRONMENTAL PROTECTION AGENCY

40 CFR Part 147

[EPA-HQ-OW-2025-0157; FRL 12672-02-OW]

Texas Underground Injection Control (UIC) Program; Class VI Primacy Application

AGENCY: Environmental Protection Agency (EPA).

ACTION: Final rule.

SUMMARY: The U.S. Environmental Protection Agency (EPA) is approving an application from the State of Texas (the State) that requests primary enforcement responsibility (primacy) for Class VI injection wells under the Safe Drinking Water Act (SDWA) section 1422. The EPA's approval of the State's UIC program revision application will allow the Texas Railroad Commission (RRC) to issue and enforce compliance with UIC Class VI permits for injection wells used for geologic carbon sequestration. The EPA will remain the permitting authority for Class VI wells on Indian lands within the State.

DATES: This final rule is effective on December 15, 2025. The incorporation by reference of certain material listed in this rule is approved by the Director of the Federal Register as of December 15, 2025. For judicial purposes, this final rule is promulgated as of December 15, 2025.

ADDRESSES: The EPA has established a docket for this action under Docket ID No. EPA-HQ-OW-2025-0157. All documents in the docket are listed on the http://www.regulations.gov website. Although listed in the index, some information is not publicly available, e.g., confidential business information (CBI) or other information whose disclosure is restricted by statute. Certain other material, such as copyrighted material, is not placed on the internet and will be publicly available only in hard copy form. Publicly available docket materials are available electronically through http://www.regulations.gov.

FOR FURTHER INFORMATION CONTACT: Kyle Carey, Drinking Water Infrastructure Development Division, Office of Ground Water and Drinking Water (4606M), Environmental Protection Agency, 1200 Pennsylvania Ave. NW, Washington, DC 20460; telephone number: (202) 564-2322; or Lisa Pham, UIC/Groundwater Section, Water Division, Region 6, U.S. Environmental Protection Agency, 1201 Elm Street, Suite 500, Dallas, Texas 75270; telephone number: (214) 665-8326; fax: (214) 665-6490. Both can be reached by emailing UICprimacy@epa.gov.

SUPPLEMENTARY INFORMATION:

Table of Contents

I. Introduction

A. Federal UIC Program and Primary Enforcement Authority (Primacy)

B. Class VI Wells Under the UIC Program

II. Legal Authorities

III. Texas' Application for UIC Class VI Primacy

A. Background

B. Public Participation Activities Conducted by Texas

C. Summary of the EPA's Comprehensive Evaluation

D. Public Participation Activities Conducted by the EPA

IV. Public Comments and the EPA's Response

A. Public Comments

B. The EPA's Response to Comments

V. The EPA's Action

A. Incorporation by Reference

B. The EPA's Oversight

VI. Statutory and Executive Order Reviews

A. Executive Order 12866: Regulatory Planning and Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health and Safety Risks

I. Executive Order 13211: Actions Concerning Regulations That Significantly Affect Energy Supply, Distribution, or Use

J. National Technology Transfer and Advancement Act (NTTAA)

K. Congressional Review Act (CRA)

VII. References

I. Introduction

A. Federal UIC Program and Primary Enforcement Authority (Primacy)

The Safe Drinking Water Act (SDWA), passed in 1974, protects public health by regulating the nation's public drinking water supply, including both surface and groundwater sources. Among other things, the SDWA requires the EPA to develop minimum requirements for effective State and Tribal UIC programs to prevent underground injection of fluids (such as water, wastewater, brines from oil and gas production, and carbon dioxide) from endangering underground sources of drinking water (USDWs). In general, USDWs are aquifers or parts of aquifers that supply a public water system or contain enough groundwater of sufficient quality to supply a public water system. See 40 CFR 144.3 (defining USDW).

The EPA's UIC program regulates various aspects of injection. These include technical aspects throughout the lifetime of the project from site characterization, construction, operation, and testing and monitoring through site closure, as well as permitting, site inspections, and reporting to ensure well owners and operators comply with UIC permits and regulations.

SDWA section 1421 directs the EPA to establish requirements that States, territories, and authorized Tribes must meet to be granted primary enforcement responsibility, or “primacy,” for a UIC program. 42 U.S.C. 300h. SDWA section 1422 provides that an applicant seeking primacy for a UIC program must demonstrate to the EPA that the applicant's proposed UIC program meets the applicable requirements promulgated by the EPA pursuant to section 1421 for protecting USDWs. 42 U.S.C. 300h through 300h-1. An applicant must demonstrate, among other things, jurisdiction over underground injection and that the applicant possesses the administrative, civil, and criminal enforcement authorities required by the EPA's implementing regulations. See 40 CFR part 145, subpart B. After the EPA approves a State for UIC program primacy, the State's UIC program may be revised with EPA approval. See 40 CFR 145.32.

The EPA evaluates each primacy application in accordance with SDWA section 1422 and the EPA's implementing regulations to determine whether the applicant (in this instance, the State of Texas) has satisfactorily demonstrated that, after reasonable notice and public hearings, it has adopted and will implement a UIC program that meets the requirements of the SDWA regulations at 40 CFR parts 144, 145, and 146. The EPA conducts a similar comprehensive evaluation for proposed State UIC program revisions, including a program revision to add Class VI primacy where an applicant already has primacy to implement other classes under the UIC program.

In this final rule, the EPA is approving Texas's program revision application to administer the UIC Class VI program in the State. EPA's approval is based on the Agency's determination that the application meets all applicable requirements for approval under SDWA section 1422 and the EPA's implementing regulations and that the State is capable of administering a UIC program in a manner consistent with the SDWA and applicable UIC regulations. The EPA will remain the permitting authority for all Class VI wells on Indian land within the State and will oversee Texas' administration of the State's UIC Class VI program pursuant to the SDWA.

B. Class VI Wells Under the UIC Program

Class VI wells are used to inject carbon dioxide into deep rock formations for the purpose of long-term underground storage, also known as geologic sequestration. The geologic sequestration of carbon dioxide in UIC Class VI wells is used as part of carbon capture and storage for carbon dioxide emissions from industrial sources. Class VI injection wells are regulated under a SDWA permitting framework that protects USDWs.

The UIC Class VI program provides multiple safeguards that work together to protect USDWs. Permit applicants that want to inject carbon dioxide underground for the purpose of geologic sequestration must obtain a Class VI permit for each well by demonstrating to the UIC permitting authority that their proposed injection well and injection activities will meet all regulatory requirements, including the following technical, financial, and managerial requirements:

• Site characterization to ensure the geology in the project area will contain the carbon dioxide within the zone where it is authorized to be injected.

• Modeling to delineate the predicted area influenced by injection activities through the lifetime of the project.

• Evaluation of the delineated area to ensure all potential pathways for fluid movement have been identified and addressed through corrective action.

• Well construction requirements that ensure the Class VI injection well will not leak carbon dioxide.

• Testing and monitoring throughout the life of the project, including after carbon dioxide injection has ended. Requirements include, for example, testing to ensure physical integrity of the well, monitoring of injection pressure and flow, chemical analysis of the carbon dioxide stream that is being injected, monitoring the extent of the injected carbon dioxide plume and the surrounding area (e.g., ground water) to ensure the carbon dioxide is contained as predicted, and may also include monitoring for seismic activity near the injection site.

• Operating requirements (for example, injection pressure limitations) to ensure the injection activity will not endanger USDWs.

• Financial assurance mechanisms sufficient to cover the costs for all phases of the geologic sequestration project including the post-injection site care period and until site closure has been approved by the permitting authority.

• Emergency and remedial response plans to protect USDWs.

• Reporting of testing and monitoring results to the permitting authority to ensure the well is operating in compliance with all permit requirements.

The permitting authority ensures that these protective requirements are included in each Class VI permit. A draft of each Class VI permit is made available to the public for comment before the decision is made whether to issue a final permit.

II. Legal Authorities

The statutory authority for this final rule is SDWA sections 1422 and 1450, 42 U.S.C. 300h-1 and 300j-9.

SDWA section 1421 requires the EPA to promulgate requirements for effective State UIC programs to prevent underground injection activities that endanger USDWs. 42 U.S.C. 300h. SDWA section 1422 requires that applicants seeking primacy approval demonstrate that they have adopted (after notice and public hearing) and will implement a UIC program which meets the requirements that the EPA promulgated under SDWA section 1421. 42 U.S.C. 300h-1.

The EPA has promulgated regulations setting forth the applicable procedures and substantive requirements for applicants seeking primacy approval for UIC programs under SDWA section 1422. The regulations in 40 CFR part 144 outline general program requirements that States must meet to obtain primacy. The regulations in 40 CFR part 145 specify the procedures the EPA will follow in approving, revising, and withdrawing UIC programs and outlines the elements and provisions that an applicant must include in its application for primacy. 40 CFR part 145 also includes requirements for State UIC permitting programs (by reference to certain provisions of 40 CFR parts 124 and 144), compliance evaluation programs, enforcement authority, and the sharing of information between the EPA and the State. The regulations in 40 CFR part 146 contain the technical criteria and standards applicable to each well class, including Class VI wells.

III. Texas' Application for UIC Class VI Primacy

A. Background

On February 20, 2025, Texas submitted to the EPA a program revision application to add Class VI wells to the State's existing SDWA section 1422 UIC program. Once approved by EPA, Texas' requirements for UIC wells would be codified and implemented in lieu of the Federal UIC requirements currently in effect in the State. See 40 CFR part 147, subpart SS. The UIC program revision application from Texas includes a description of the State's proposed UIC Class VI program, copies of all applicable rules and forms, a statement of legal authority, a summary of Texas' public participation activities, a letter from the Governor of Texas requesting program approval and an addendum to an existing UIC Memorandum of Agreement (MOA) between Texas and the EPA Region 6 Administrator. The EPA reviewed the application for completeness and performed a technical and legal evaluation of the application materials to assess and confirm that Texas' proposed UIC Class VI program meets Federal requirements.

B. Public Participation Activities Conducted by Texas

The RRC proposed regulations for the geologic storage of carbon dioxide (CO2) in a notice and request for comment published on its website on September 29, 2010, and in the Texas Register on October 15, 2010. On December 17, 2010, the RRC responded to comments and adopted final regulations (16 Tex. Admin. Code secs. 5.101-5.308). On March 20, 2012, the RRC proposed amendments to its CO2 geologic storage regulations. The RRC provided notice of these proposed amendments through the Texas Register on April 6, 2012, and held a 31-day comment period closing on May 7, 2012. The RRC issued a response to comments and notice of the adoption of the final amendments to the regulations in the Texas Register on June 29, 2012.

The RRC proposed additional amendments to its CO2 geologic storage regulations in 2022 as part of its effort to develop and submit a program revision application to receive primacy for the Class VI UIC program. The RRC published notice of the proposed amendments and a 31-day opportunity for public comment in the Texas Register on May 20, 2022. The RRC held a public hearing on the proposed regulatory amendments via webcast on June 14, 2022. The RRC received 18 comments on the proposed amendments, five from industry associations (the Greater Houston Partnership, NARO-Texas, the Permian Basin Petroleum Association, the Texas Industry Project, and the Texas Oil and Gas Association), ten from companies or organizations, two from individuals, and one comment submitted on behalf of 37 Texas-based organizations and individuals. Comments on the regulations covered technical, administrative, and procedural requirements, some of which resulted in changes to the proposed amendments. Most commenters expressed support for Texas' planned program revision application requesting primacy for the Class VI program. However, one commenter requested Texas withdraw its anticipated application based on the commenter's criticisms of the RRC's oversight and enforcement of the programs it currently implements. The RRC issued a response to comments and notice of the adoption of the amendments in the Texas Register on September 16, 2022.

In response to feedback from the EPA, the RRC proposed additional amendments to its CO2 geologic storage regulations in 2023. The RRC provided notice of the proposed amendments and an opportunity for public comment through July 31, 2023, on the RRC website on June 15, 2023, and in the Texas Register on June 30, 2023. The RRC received 30 comments on the proposed amendments, six from industry associations (Greater Houston Partnership, Reliable Energy Alliance, Texas Chapter of National Association of Royalty Owners, Texas Chemical Council, Texas Industry Project, and the Texas Oil and Gas Association), two from organizations (Environmental Defense Fund and Commission Shift), 21 from individuals and one on behalf of 31 Texas-based organizations and individuals. Some of the comments expressed support for Texas' program revision application requesting primacy for the Class VI program. Other comments expressed concern about the process and potential environmental and public health impacts from the injection and geologic storage of CO2. Some commentors requested Texas withdraw its application for Class VI primacy. In addition, the RRC received comments on the proposed amendments to the State regulations regarding the technical, administrative, and procedural requirements, some of which resulted in changes to the proposed amendments. The RRC issued a response to comments and notice of the adoption of the amendments to the regulations in the Texas Register on September 8, 2023.

Documentation of Texas' public participation activities, including comments received and responses by the RRC, can be found in the EPA's Docket ID No. EPA-HQ-OW-2025-0157.

C. Summary of the EPA's Comprehensive Evaluation

The EPA evaluates applications from primacy authorities to revise their UIC programs in accordance with SDWA section 1422 and 40 CFR 145.32 to determine whether an applicant has satisfactorily demonstrated that its proposed program revision meets EPA regulatory requirements and the SDWA. The EPA conducted a comprehensive technical and legal evaluation of Texas' program revision application to determine whether the State's proposed UIC Class VI program—including statutes and regulations, program description, Attorney General's statement, and MOA addendum—meets the requirements of SDWA section 1422 and EPA regulations. Upon review, the EPA determined that Texas' program revision application demonstrates that the State has adopted and will implement a Class VI UIC program that meets the requirements of 40 CFR parts 144, 145, and 146.

The EPA evaluated Texas' UIC Class VI program description for consistency with 40 CFR 145.23, which specifies all the information that must be included as part of the program description. The EPA's evaluation of the UIC Class VI program description included reviewing the scope, coverage, processes, and organizational structure of the proposed Class VI program. The EPA evaluated Texas' permitting, administrative, and judicial review procedures relevant to Class VI permits, as well as the State's permit application, reporting, and manifest forms for Class VI permits. The EPA also reviewed the State's UIC compliance evaluation program and enforcement authorities and the State's demonstration that its UIC Class VI program will have adequate in-house staff or access to contractor support for technical areas including site characterization, modeling, well construction and testing, financial responsibility, and regulatory and risk analysis.

The EPA evaluated Texas' Class VI related Attorney General's statement for consistency with 40 CFR 145.24. In an Attorney General's statement, the State's top legal officer affirms that applicable State law (e.g., statutes, regulations, and judicial decisions) provides adequate authority to administer the Class VI UIC program as described in the program description and consistent with the EPA's regulatory requirements for UIC programs.

The EPA determined that the Class VI MOA addendum meets the Federal requirements at 40 CFR 145.25 for primacy MOAs. The MOA is the central agreement setting the provisions and arrangements between the State and the EPA concerning the administration and enforcement of the State UIC program. The EPA's evaluation of the Class VI MOA addendum included ensuring that the MOA addendum contained the appropriate provisions pertaining to coordination, permitting, compliance monitoring, enforcement, and EPA oversight.

Texas has demonstrated that it meets all UIC permitting requirements found in 40 CFR 145.11 for Class VI permits. Texas' UIC Class VI permitting provisions and technical criteria and standards meet the Federal requirements in 40 CFR parts 124 and 144 through 146. The State has incorporated necessary procedures, pursuant to 40 CFR 145.12, to support a robust UIC Class VI compliance evaluation program. Additionally, Texas has available the necessary civil and criminal enforcement authorities pursuant to 40 CFR 145.13. Texas' UIC Class VI regulations regarding permitting, inspection, operation, monitoring, reporting, and recordkeeping meet Federal requirements found in 40 CFR parts 145 and 146.

As a result of this comprehensive review, the EPA approves Texas' program revision application based on the Agency's determination that the application meets all applicable requirements for Class VI primacy under SDWA section 1422 and EPA's implementing regulations and because the State has demonstrated that it is prepared to implement UIC Class VI program in a manner consistent with the SDWA and all applicable UIC regulations.

D. Public Participation Activities Conducted by the EPA

On May 8, 2025, the EPA Region 6 Water Division Director sent a letter via email to leaders of three tribes in Texas (Alabama-Coushatta, Kickapoo Traditional, Ysleta del Sur Pueblo) and five in Oklahoma that border Texas to the North (Apache, Kiowa Indian, Comanche, Chickasaw Nation, Choctaw Nation) offering an opportunity for Government-to-Government consultation on Texas' program revision application seeking primacy for the UIC Class VI program. On May 20, 2025, the EPA Region 6 hosted a Tribal informational virtual meeting and listening session to provide an overview of the Texas application. Three tribes participated in this meeting, Alabama-Coushatta, Ysleta del Sur Pueblo, and Choctaw Nation. The EPA provided a description of the Federal UIC Class VI program and informed the tribes of its plan to soon publish a rule proposing to approve Texas' application. After the meeting, the EPA emailed attendees links to current Class VI well data in Texas for informational purposes. The EPA received no request for tribal consultation during the period beginning May 8, 2025, and ending with the close of public comment on August 1, 2025.

On June 17, 2025, the EPA published a proposed rulemaking in the Federal Register (90 FR 25547) proposing to approve Texas' application to revise its UIC program to implement the UIC Class VI program within the State. The proposal established a 45-day public comment period that closed on August 1, 2025. The EPA held a public hearing on July 24, 2025, that participants could attend virtually, as well as by phone. In addition to the Federal Register, the EPA published notice of the hearing on the EPA's website and in the Austin American-Statesman, the Dallas Morning News, and the Houston Chronicle newspapers.

IV. Public Comments and the EPA's Response

A. Public Comments

During the public comment period, the EPA received 7,534 written comments and 90 oral comments on the proposal from individual citizens, energy and industry groups, potential Class VI permittees, environmental and civil rights non-government organizations, local governments, members of the State Legislature, the Governor of Texas, academia, and others. The majority of the written comments the EPA received on the proposal were in the form of several “mass mailing” letter campaigns, including comments from stakeholders supporting approval of Class VI primacy for the State of Texas and those opposing.

The EPA considered these comments in the development of this final rule. All comments are available as part of the public record and can be accessed through the EPA's docket (ID No. EPA-HQ-OW-2025-0157). Documentation of the EPA's public participation activities, including comments received and the EPA's comment response document, can also be found in the docket (ID. No. EPA-HQ-OW-2025-0157).

B. The EPA's Response to Comments

The EPA received comments both supporting and opposing the proposed approval of UIC Class VI program primacy for the State of Texas, as well as some comments outside the scope of the primacy approval action.

Commenters in support of Texas UIC Class VI program primacy approval asserted that the State's application meets all requirements at 40 CFR part 145 and SDWA section 1422 and that the RRC has demonstrated the ability and authority required for Class VI primacy approval. They stated that the RRC is experienced with UIC permitting, has a robust UIC permitting program, has effectively regulated deep injection wells since 1982, and is familiar with carbon dioxide injection via permitting of Class II enhanced oil recovery wells. They also asserted that the RRC has the financial resources and capacity to ensure thorough Class VI permit application reviews, and that the RRC has in-house staff trained in the technical disciplines needed to review Class VI permit applications and oversee Class VI well operators, as well as a familiarity with Texas' geology and local communities and their needs.

Commenters opposing Class VI primacy approval, including writers of mass mailing letters, expressed concerns related to the RRC's ability to oversee a Class VI program, alleging past inabilities to inspect wells and enforce Class II regulations which, they assert, could impact public health and the environment. They alleged the RRC has insufficiently investigated complaints or insufficiently enforced violations associated with Class II injection wells. Commenters further alleged that the RRC does not have a demonstrated history of robust public engagement or accessible hearings. Commenters expressed concern that the RRC has insufficient financial resources to oversee Class VI wells in the State and alleged that the RRC lacks independence from political or oil and gas industry influences.

Comments received outside the scope of this primacy approval action included concerns about oil and gas production well plugging and abandonment, pipeline safety, environmental impacts on media other than USDWs, such as wetlands, surface water, and air, and tax revenues associated with the geologic sequestration of carbon dioxide. The EPA has noted and addressed all topics, including out-of-scope topics, in the Agency's response to comments document included in the docket (ID. No. EPA-HQ-OW-2025-0157).

V. The EPA's Action

A. Incorporation by Reference

The EPA is approving a revision to the State of Texas UIC program to give Texas primacy over Class VI injection wells in the State, except for those located on Indian lands. This action amends 40 CFR 147.2200 and incorporates by reference Texas' EPA-approved statutes and regulations that contain UIC Class VI standards, requirements, and procedures applicable to Class VI owners or operators within the State. Any provisions incorporated by reference, as well as all permit conditions issued pursuant to such provisions, are enforceable by the EPA pursuant to SDWA section 1423, 42 U.S.C. 300h-2, and 40 CFR 147.1(e). The EPA will continue to administer the UIC program for Class I, II, III, IV, V, and VI injection wells on Indian lands. 30 CFR 147.2205. No Tribe currently has UIC primacy for Indian lands within Texas.

The EPA has compiled the applicable Texas statutes and regulations to be incorporated by reference into 40 CFR 147.2200 in a document titled “EPA Approved Texas SDWA § 1422 Underground Injection Control Program Statutes and Regulations for Well Class VI,” dated May 1, 2025. This compilation is available at https://www.regulations.gov in the docket for the proposed rulemaking. With this action, the EPA also codifies a table in 40 CFR 147.2200 listing the compiled EPA-approved Texas statutes and regulations that contain standards, requirements, and procedures applicable to owners or operators of Class VI wells that the EPA incorporates by reference. Any provision of these statutes and regulations that does not contain standards, requirements, or procedures applicable to owners or operators of Class VI wells are not incorporated by reference.

B. The EPA's Oversight

The EPA will continue to oversee Texas' administration of its UIC program, including by requiring quarterly reports on instances of permittee non-compliance and annual UIC performance reports pursuant to 40 CFR 144.8. The MOA between the EPA Region 6 and the RRC also specifies that the EPA will oversee the State's administration of the UIC program on a continuing basis to assure that such administration is consistent with the program MOA, the SDWA and implementing regulations, UIC grant agreements, and other applicable requirements.

VI. Statutory and Executive Order Reviews

Additional information about these statutes and Executive orders can be found at: https://www.epa.gov/laws-regulations/laws-and-executive-orders.

A. Executive Order 12866: Regulatory Planning and Review

This action is exempt from review under Executive Order 12866, because the Office of Management and Budget (OMB) has exempted, as a category, the approval of State UIC programs.

B. Executive Order 14192: Unleashing Prosperity Through Deregulation

Executive Order 14192 does not apply because actions that approve State UIC Programs are exempted from review under Executive Order 12866. This exemption also applies to EPA approvals of revisions to existing State UIC programs.

C. Paperwork Reduction Act (PRA)

This action will not impose an information collection burden under the PRA. OMB has previously approved the information collection activities contained in the existing regulations and has assigned OMB control number 2040-0042. Reporting or recordkeeping requirements will be based on Texas' UIC Regulations, and the State of Texas is not subject to the PRA.

D. Regulatory Flexibility Act (RFA)

I certify that this action will not have a significant economic impact on a substantial number of small entities under the RFA. This action will not impose any additional burdens on small entities as this action codifies a State program already in effect and transfers primary implementation authority from the EPA to a State program with substantially the same requirements.

E. Unfunded Mandates Reform Act (UMRA)

This action does not contain an unfunded mandate as described in UMRA, 2 U.S.C. 1531-1538, and does not significantly or uniquely affect small governments. The action imposes no enforceable duty on any State, local, or Tribal governments or the private sector. The EPA's approval of Texas' UIC Class VI program will not constitute a Federal mandate because there is no requirement that a State establish a UIC regulatory program and the program is a State program, rather than a Federal program.

F. Executive Order 13132: Federalism

This action does not have federalism implications. It will not have substantial direct effects on the States, on the relationship between the National Government and the States, or on the distribution of power and responsibilities among the various levels of government.

G. Executive Order 13175: Consultation and Coordination With Indian Tribal Governments

This action does not have Tribal implications as specified in Executive Order 13175. This action contains no Federal mandates for Tribal governments and does not impose any enforceable duties on Tribal governments. Thus, Executive Order 13175 does not apply to this action.

H. Executive Order 13045: Protection of Children From Environmental Health and Safety Risks

The EPA interprets Executive Order 13045 as applying only to those regulatory actions that concern environmental health or safety risks that the EPA has reason to believe may disproportionately affect children, per the definition of “covered regulatory action” in section 2-202 of the Executive Order. This action is not subject to Executive Order 13045 because it approves a revision to a State program.

I. Executive Order 13211: Actions Concerning Regulations That Significantly Affect Energy Supply, Distribution, or Use

This action is not subject to Executive Order 13211 because it is not a significant regulatory action under Executive Order 12866.

J. National Technology Transfer and Advancement Act (NTTAA)

This rule does not involve technical standards.

K. Congressional Review Act (CRA)

This final rule is subject to the CRA, and the EPA will submit a rule report to each House of the Congress and to the Comptroller General of the United States. This action is not a “major rule” as defined by 5 U.S.C. 804(2).

VII. References

Attorney General's Statement “State of Texas Office of the Attorney General Statement of Legal Authority to Administer the State Underground Injection Control Program for Class VI Wells”, signed by the Attorney General of Texas on November 11, 2022.

Class VI Underground Injection Control Program Description “State of Texas Class VI Underground Injection Control 1422 Program Description”, Railroad Commission of Texas, February 20, 2025.

Letter from the Governor of Texas to the Regional Administrator, EPA Region 6, signed on December 12, 2022.

The Memorandum of Agreement Addendum 2 Between the Railroad Commission of Texas and The United States Environmental Protection Agency Region 6 for the Class VI UIC Program signed by the EPA Regional Administrator on April 29, 2025.

State of Texas Railroad Commission of Texas Oil and Gas Division Class VI UIC Primacy Application, “Relevant State Statutes and Regulations”, February 20, 2025.

State of Texas Railroad Commission of Texas Oil and Gas Division Class VI UIC Primacy Application, “Public Participation Documentation”, February 20, 2025.

U.S. Environmental Protection Agency. Proposed “EPA Approved Texas SDWA § 1422 Underground Injection Control Program Statutes and Regulations for Well Class V”, May 1, 2025. Office of Water.

List of Subjects in 40 CFR Part 147

Environmental protection, Incorporation by reference, Indian—lands, Intergovernmental relations, Reporting and recordkeeping requirements, Water supply.

Lee Zeldin,
Administrator.

For the reasons set forth in the preamble, the EPA hereby amends 40 CFR part 147 as follows:

PART 147—STATE, TRIBAL, AND EPA-ADMINISTERED UNDERGROUND INJECTION CONTROL PROGRAMS

1. The authority citation for part 147 continues to read as follows:

Authority: 42 U.S.C. 300f et seq.; and 42 U.S.C. 6901 et seq.

2. Amend § 147.2200 by:

a. Revising the section heading, the introductory paragraph, and paragraph (a) introductory text; and

b. Adding paragraphs (a)(3), (c)(3) and (4), (d)(3), and (e)(3).

The revisions and additions read as follows:

§ 147.2200 State-administered program—Class I, III, IV, V, and VI wells.

The UIC program for Class I, III, IV, and V wells in the State of Texas, except for those wells on Indian lands, and except for Class III brine mining wells and certain Class V wells, is the program administered by the Texas Commission on Environmental Quality approved by EPA pursuant to section 1422 of the Safe Drinking Water Act (SDWA). Notice of the original approval for Class I, III, IV, and V wells was published in the Federal Register on January 6, 1982, and became effective February 7, 1982. Class V geothermal wells and wells for the in-situ combustion of coal are regulated by the Railroad Commission of Texas under a separate UIC program approved by EPA pursuant to section 1422 of SDWA and published in the Federal Register and effective on April 23, 1982. A subsequent program revision application for Class I, III, IV, and V wells, not including Class III brine mining wells, was approved by the EPA pursuant to section 1422 of SDWA. Notice of this approval was published in the Federal Register on February 25, 2004, with an effective date of March 26, 2004. The UIC program for Class III brine mining wells in the State of Texas, except for those wells on Indian lands, is the program administered by the Railroad Commission of Texas. A program revision application for Class III brine mining wells was approved by EPA pursuant to section 1422 of SDWA. Notice of that approval was published in the Federal Register on February 26, 2004, effective March 29, 2004. The UIC Program for Class VI wells in the State of Texas, except those located on Indian lands, is the program administered by the Railroad Commission of Texas, approved by the EPA pursuant to section 1422 of the SDWA. The effective date of this program is December 15, 2025. The UIC program for Class I, III, IV, V, and VI wells in the State of Texas, except those located on Indian lands, consists of the following elements, as submitted to EPA in the State's program application and program revision applications.

(a) Incorporation by reference. The requirements set forth in the State statutes and regulations cited in this paragraph are hereby incorporated by reference and made part of the applicable UIC program under SDWA for the State of Texas. This incorporation by reference was approved by the Director of the Federal Register in accordance with 5 U.S.C. 552(a) and 1 CFR part 51. This incorporation by reference (IBR) material is available for inspection at the EPA and at the National Archives and Records Administration (NARA). If you wish to obtain materials from the EPA, please contact the Water Docket at U.S. Environmental Protection Agency, Water Docket, EPA Docket Center (EPA/DC), EPA WJC West, Room 3334, 1301 Constitution Ave. NW, Washington, DC 20004; phone: (202) 566-1744; email: Docket-customerservice@epa.gov; website: www.epa.gov/dockets/epa-docket-center-reading-room or the Region VI, Library, U.S. Environmental Protection Agency, 1201 Elm Street, Suite 500, Dallas, Texas 75270; phone: (214) 665-6424; email: Library_Region6@epa.gov; website: https://www.epa.gov/epalibraries/region-6-library-services. You may also view this material at the National Archives and Records Administration (NARA). For information on the availability of this material at NARA, email: fr.inspection@nara.gov, or go to: www.archives.gov/federal-register/cfr/ibr-locations. The IBR material may be obtained from the EPA offices listed in this paragraph (a).

* * * * *

(3) EPA Approved Texas SDWA § 1422 Underground Injection Control Program Statutes and Regulations for Well Class VI, dated May 1, 2025. Table 1 to this paragraph (a)(3) lists the Texas statutes and regulations that the EPA has approved for inclusion in this compilation.

Table 1 to Paragraph (a)(3)
State citation | Title/subject | State effective date | EPA approval date
Texas Administrative Code, Title 16, Part 1, Chapter 5 | Carbon Dioxide (CO2) | September 11, 2023 | November 14, 2025.
Texas Water Code, Title 2, Subtitle D, Chapter 27 | Injection Wells | June 9, 2021 | November 14, 2025.

* * * * *

(c) * * *

(3) Class VI Wells. The Memorandum of Agreement Addendum 2 Between The Railroad Commission of Texas and The United States Environmental Protection Agency Region 6 for the Class VI UIC Program signed by the EPA Regional Administrator on April 29, 2025.

(4) Request for program approval. Letter from the Governor of Texas to the Regional Administrator, EPA Region 6, signed on December 12, 2022.

(d) * * *

(3) Class VI Wells. Attorney General's Statement, “State of Texas office of the Attorney General Statement of Legal Authority to Administer the State Underground Injection Control Program for Class VI Wells”, signed by the Attorney General of Texas on November 11, 2022.

(e) * * *

(3) Class VI Wells. The Program Description, “State of Texas Class VI Underground Injection Control 1422 Program Description Railroad Commission of Texas”.

[FR Doc. 2025-19898 Filed 11-13-25; 8:45 am]

BILLING CODE 6560-50-P